SECURITIES AND EXCHANGE COMMISSION

[File No. 500-1]

ADS Media Group, Inc., American Enterprise Development Corp., and Arcland Energy Corp.; Order of Suspension of Trading

October 20, 2011.

It appears to the Securities and Exchange Commission that there is a lack of current and accurate information concerning the securities of ADS Media Group, Inc. because it has not filed any periodic reports since the period ended March 31, 2008.

It appears to the Securities and Exchange Commission that there is a lack of current and accurate information concerning the securities of American Enterprise Development Corp. because it has not filed any periodic reports since the period ended September 30, 2007.

It appears to the Securities and Exchange Commission that there is a lack of current and accurate information concerning the securities of Arcland Energy Corp. because it has not filed any periodic reports since the period ended April 30, 2008.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on October 20, 2011, through 11:59 p.m. EDT on November 2, 2011.

By the Commission.
Jill M. Peterson,
Assistant Secretary.

[FR Doc. 2011-27568 Filed 10-20-11; 4:15 pm]

BILLING CODE 8011-01-P